ENVIRONMENTAL PROTECTION AGENCY

[EPA-HQ-OPP-2017-0009; FRL-9962-59]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period January 1, 2017 to March 31, 2017 to control unforeseen pest outbreaks.

FOR FURTHER INFORMATION CONTACT: Michael Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2017-0009, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

Alabama

Department of Agriculture and Industries

Specific exemptions: EPA authorized the use of sulfoxaflor on a maximum of 45,000 acres of sorghum (grain and forage) to control sugarcane aphid. A time-limited tolerance in connection with this action has been established in 40 CFR 180.668(b); Effective April 9, 2017 to October 31, 2017.

EPA authorized the use of sulfoxaflor on a maximum of 75,000 acres of cotton to control tarnished plant bugs. Tolerances in connection with a previous action have been established in 40 CFR 180.668(a); Effective June 1, 2017 to October 31, 2017.

Arkansas

State Plant Board

Specific exemptions: EPA authorized the use of sulfoxaflor on a maximum of 420,000 acres of cotton to control tarnished plant bugs. Tolerances in connection with a previous action have been established in 40 CFR 180.668(a); Effective June 1, 2017 to October 31, 2017.

EPA authorized the use of sulfoxaflor on a maximum of 50,000 acres of sorghum (grain and forage) to control sugarcane aphid. A time-limited tolerance in connection with this action has been established in 40 CFR 180.668(b); Effective April 9, 2017 to September 15, 2017.

Florida

Department of Agriculture and Consumer Services

Specific exemptions: EPA authorized the uses of streptomycin and oxytetracycline on a maximum of 388,534 acres of citrus to manage HLB or citrus greening disease caused by the bacteria, Candidatus Liberibacter Asiaticus. Time-limited tolerances in connection with these actions have been established at 40 CFR 180.337(b) (oxytetracycline) and 180.245(b) (streptomycin). Effective January 10, 2017 to December 31, 2017.

EPA authorized the use of tolfenpyrad on a maximum of 51,600 acres of fruiting vegetables to control various thrips. A time-limited tolerance in connection with this action have been established in 40 CFR 180.675(b); Effective March 1, 2017 to March 1, 2018.

Louisiana

Department of Agriculture and Forestry

Specific exemptions: EPA authorized the use of sulfoxaflor on a maximum of 180,000 acres of sorghum (grain and forage) to control sugarcane aphid. A time-limited tolerance in connection with this action has been established in 40 CFR 180.668(b); Effective April 9, 2017 to November 30, 2017.

EPA authorized the use of sulfoxaflor on a maximum of 175,000 acres of cotton to control tarnished plant bugs. Tolerances in connection with a previous action have been established in 40 CFR 180.668(a); Effective May 15, 2017 to October 31, 2017.

Quarantine exemption: EPA authorized the use of triclopyr on a maximum of 382,467 acres of sugarcane to control Merrill's nightshade. A time-limited tolerance in connection with this action will be established in 40 CFR 180.417(b); Effective February 10, 2017 to May 31, 2020.

Pennsylvania

Department of Agriculture

Specific exemptions: EPA authorized the use of thiabendazole on mushroom spawn and supplement equivalent to a maximum of 83,750,000 square feet of crop to control Trichoderma green mold. A time-limited tolerance in connection with a previous action is established at 40 CFR 180.242(a); Effective March 17, 2017 to March 17, 2018.

Texas

Department of Agriculture

Crisis exemption: On March 17, 2017, the Texas Department of Agriculture declared a crisis exemption to allow the use of tolfenpyrad on a maximum of 10,000 acres of dry bulb onions to control onion thrips. The need for this use is expected beyond the 15 days allowed under a crisis exemption, and a specific exemption request was submitted to the Agency. A time-limited tolerance in connection with this action will be established in 40 CFR 180.675(b); Effective March 14, 2017 to March 31, 2017.

Specific exemptions: EPA authorized the use of sulfoxaflor on a maximum of 3,000,000 acres of sorghum (grain and forage) to control sugarcane aphid. A time-limited tolerance in connection with this action has been established in 40 CFR 180.668(b); Effective April 9, 2017 to November 30, 2017.

EPA authorized the use of clothianidin on a maximum of 4,000 acres of immature citrus trees to manage the transmission of Huanglongbing (HLB) disease vectored by the Asian citrus psyllid. A time-limited tolerance in connection with this action was established in 40 CFR 180.668(b); Effective May 1, 2017 to May 1, 2018.

B. Federal Department and Agency

U.S. Department of Agriculture

Animal and Plant Health Inspector Service

Quarantine exemptions: EPA authorized the use of methyl bromide on post-harvest unlabeled imported/domestic commodities to prevent the introduction/spread of any new or recently introduced foreign pest(s) to any U.S. geographical location; March 1, 2017 to March 1, 2020.

EPA authorized the planting of 100% of cotton acreage to transgenic (Bt) cotton as a component of the Pink Bollworm (PBW) Eradication Program in the PBW eradication area of California. A potential maximum of an additional 1,600 acres could be planted to Bt cotton under this quarantine exemption. Effective: March 9, 2017 to March 9, 2020.

Authority: 7 U.S.C. 136 et seq.

Dated: May 26, 2017.
Daniel Rosenblatt,
Acting Director, Registration Division, Office of Pesticide Programs.

[FR Doc. 2017-14089 Filed 7-3-17; 8:45 am]

BILLING CODE 6560-50-P